DEPARTMENT OF TRANSPORTATION

Federal Aviation Administration

14 CFR Part 39

[Docket No. FAA-2012-1155; Directorate Identifier 2012-NM-115-AD; Amendment 39-17445; AD 2013-09-04]

RIN 2120-AA64

Airworthiness Directives; Bombardier, Inc. Airplanes

AGENCY: Federal Aviation Administration (FAA), Department of Transportation (DOT).

ACTION: Final Rule.

SUMMARY: We are adopting a new airworthiness directive (AD) for certain Bombardier, Inc. Model DHC-8-400 series airplanes. This AD was prompted by reports of chafing found on the main landing gear (MLG) yoke. The chafing was attributed to contact between the nacelle fire detection wires and the MLG yoke. This AD requires inspections of the nacelle fire detection wires and the MLG yoke for damage; replacing nacelle fire detection wires, if necessary; repairing the MLG yoke, if necessary; and installing brackets and associated hardware to secure the fire detection wires. We are issuing this AD to prevent chafing between the nacelle fire detection wires and the MLG yoke. Chafing could lead to cracking and subsequent failure of the MLG yoke, which could adversely affect the safe landing of the airplane. In addition, chafing of the nacelle fire detection wires could cause them to fail and prevent the detection of a fire in the nacelle assembly.

DATES: This AD becomes effective August 2, 2013.

The Director of the Federal Register approved the incorporation by reference of a certain publication listed in this AD as of August 2, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Assata Dessaline, Aerospace Engineer, Avionics and Services Branch, ANE-171, FAA, New York Aircraft Certification Office (ACO), 1600 Stewart Avenue, Suite 410, Westbury, New York 11590; telephone (516) 228-7301; fax (516) 794-5531.

SUPPLEMENTARY INFORMATION:

Discussion

We issued a notice of proposed rulemaking (NPRM) to amend 14 CFR part 39 to include an AD that would apply to the specified products. That NPRM was published in the Federal Register on November 5, 2012 (77 FR 66413). That NPRM proposed to correct an unsafe condition for the specified products. The Mandatory Continuing Airworthiness Information (MCAI) states:

There have been two (2) in-service reports of chafing found on the main landing gear (MLG) yoke. The chafing was attributed to contact between the nacelle fire detection wire and the MLG yoke. This chafing may lead to cracking and subsequent failure of the MLG yoke.

Failure of the MLG yoke could adversely affect the safe landing of the aeroplane. In addition, failure of the fire detection wire could prevent the detection of a fire in the nacelle assembly.

This [Canadian] Airworthiness Directive (AD) mandates the [detailed] inspection of the nacelle fire detection wires and [detailed inspection of the] MLG yoke for damage [chafing, nicks, cracking] and the installation of new brackets to secure the fire detection wire to prevent chafing against the MLG yoke [and corrective actions if necessary].

Corrective actions include replacing damaged wires with new wires and repairing the MLG yoke. You may obtain further information by examining the MCAI in the AD docket.

Comments

We gave the public the opportunity to participate in developing this AD. We considered the comments received.

Request To Allow Reference to Canadian AD

Horizon Air requested that the last sentence in paragraph (g)(2)(ii) of the NPRM (77 FR 66413, November 5, 2012) be deleted. That sentence states, “The approved repair must specifically reference this AD.” Horizon Air stated that Bombardier references Transport Canada Civil Aviation ADs on repair drawings and the requirement to reference an FAA AD has not been included in previous ADs issued by the FAA. Horizon noted that a reference to the Canadian AD should be sufficient and the final rule should be changed to allow a reference to the Canadian AD.

For the reasons presented by the commenter we agree to delete the last sentence of paragraph (g)(2)(ii) in this AD. That sentence was inadvertently included in the NPRM (77 FR 66413, November 5, 2012).

Request To Change Certain Reference to Brackets

Horizon Air requested that paragraph (g)(3) of the NPRM (77 FR 66413, November 5, 2012) be revised to delete the word “new” from the sentence, “Install new brackets and associated hardware . . . .” Horizon acknowledged that this sentence was included in Canadian AD CF-2012-15, dated April 30, 2012, which is referenced in the NPRM, but based on the FAA's policy of strict interpretation of the word “new” as a zero-time part, this sentence places an additional requirement on U.S. operators to ensure that only zero-time brackets are installed.

We agree to revise paragraph (g)(3) in this final rule to delete the word “new.” This will remove the requirement that operators only install “new” brackets. We also deleted the word “new” in the SUMMARY section of this final rule.

Conclusion

We reviewed the available data, including the comments received, and determined that air safety and the public interest require adopting the AD with the changes described previously and minor editorial changes. We have determined that these changes:

• Are consistent with the intent that was proposed in the NPRM (77 FR 66413, November 5, 2012) for correcting the unsafe condition; and

• Do not add any additional burden upon the public than was already proposed in the NPRM (77 FR 66413, November 5, 2012).

Costs of Compliance

We estimate that this AD will affect 80 products of U.S. registry. We also estimate that it will take about 3 work-hours per product to comply with the basic requirements of this AD. The average labor rate is $85 per work-hour. Required parts will cost about $332 per product. Where the service information lists required parts costs that are covered under warranty, we have assumed that there will be no charge for these parts. As we do not control warranty coverage for affected parties, some parties may incur costs higher than estimated here. Based on these figures, we estimate the cost of this AD to the U.S. operators to be $46,960, or $587 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 66413, November 5, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-09-04 Bombardier, Inc.:

Amendment 39-17445. Docket No. FAA-2012-1155; Directorate Identifier 2012-NM-115-AD.

(a) Effective Date

This airworthiness directive (AD) becomes effective August 2, 2013.

(b) Affected ADs

None.

(c) Applicability

This AD applies to Bombardier, Inc. Model DHC-8-400, -401, and -402 airplanes; certificated in any category; serial numbers 4001 through 4382 inclusive.

(d) Subject

Joint Aircraft System Component (JASC)/Air Transport Association (ATA) of America Code 26, Fire protection.

(e) Reason

This AD was prompted by reports of chafing found on the main landing gear (MLG) yoke. We are issuing this AD to prevent chafing between the nacelle fire detection wires and the MLG yoke. Chafing could lead to cracking and subsequent failure of the MLG yoke, which could adversely affect the safe landing of the airplane. In addition, chafing of the nacelle fire detection wires could cause them to fail and prevent the detection of a fire in the nacelle assembly.

(f) Compliance

You are responsible for having the actions required by this AD performed within the compliance times specified, unless the actions have already been done.

(g) Inspections and Installation

Within 6,000 flight hours or 36 months after the effective date of this AD, whichever occurs first, accomplish the actions specified in paragraphs (g)(1), (g)(2), and (g)(3) of this AD, in accordance with the Accomplishment Instructions of Bombardier Service Bulletin 84-26-11, Revision A, dated January 25, 2012.

(1) Do a detailed inspection of the left and right nacelle fire detection wires for damage (i.e., chafing). If damage is found on any nacelle fire detection wire: Before further flight, remove and replace the damaged wire with a new wire, in accordance with the Accomplishment Instructions of Bombardier Service Bulletin 84-26-11, Revision A, dated January 25, 2012.

(2) Do a detailed inspection of the MLG yoke for damage (e.g., chafing, nicks, cracking).

(i) If any damage is found within the limitations specified in Figure 8 of Bombardier Service Bulletin 84-26-11, Revision A, dated January 25, 2012: Before further flight, repair the MLG yoke, in accordance with Figure 9, steps 1 through 10, of Bombardier Service Bulletin 84-26-11, Revision A, dated January 25, 2012.

(ii) If any damage exceeds the limitations specified in Figure 8 of Bombardier Service Bulletin 84-26-11, Revision A, dated January 25, 2012: Before further flight, repair the MLG yoke using a method approved by either the Manager, New York Aircraft Certification Office (ACO), ANE-170, FAA; or Transport Canada Civil Aviation (or its delegated agent).

(3) Install brackets and associated hardware, in accordance with the Accomplishment Instructions of Bombardier Service Bulletin 84-26-11, Revision A, dated January 25, 2012.

(h) Credit for Previous Actions

This paragraph provides credit for actions required by paragraphs (g)(1), (g)(2), and (g)(3) of this AD, if those actions were performed before the effective date of this AD using Bombardier Service Bulletin 84-26-11, dated December 19, 2011, which is not incorporated by reference in this AD.

(i) Other FAA AD Provisions

The following provisions also apply to this AD:

(1) Alternative Methods of Compliance (AMOCs): The Manager, New York ACO, ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

(1) Refer to MCAI Canadian Airworthiness Directive CF-2012-15, dated April 30, 2012 (http://wwwapps3.tc.gc.ca/Saf-Sec-Sur/2/cawis-swimn/attachment.asp?aiid=CF-2012-15&revid=0&cntr=CF&file=CFCF-2012-15.pdf&type=PDE), for related information.

(2) Service information identified in this AD that is not incorporated by reference in this AD may be obtained at the addresses specified in paragraphs (k)(3) and (k)(4) of this AD.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Bombardier Service Bulletin 84-26-11, Revision A, dated January 25, 2012.

(ii) Reserved.

(3) For service information identified in this AD, contact Bombardier, Inc., Q Series Technical Help Desk, 123 Garratt Boulevard, Toronto, Ontario M3K 1Y5, Canada; telephone 416-375-4000; fax 416-375-4539; email thd.qseries@aero.bombardier.com; Internet http://www.bombardier.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on April 23, 2013.
Jeffrey E. Duven,
Acting Manager, Transport Airplane Directorate, Aircraft Certification Service.

[FR Doc. 2013-14430 Filed 6-27-13; 8:45 am]

BILLING CODE 4910-13-P